DEPARTMENT OF ENERGY

Federal Energy Regulatory Commission

[Docket No. RP07-565-000]

Rockies Express Pipeline LLC; Notice of Filing of Request for Limited Waiver of Tariff Provisions

August 15, 2007.

Take notice that on August 7, 2007, Rockies Express Pipeline LLC (Rockies Express) tendered for filing with the Federal Energy Regulatory Commission (Commission) a Request for Limited Waiver of its tariff provisions.

Rockies Express states that it is filing the above-referenced request in order to petition the Commission to allow Rockies Express to waive for the months of June and July 2007, certain fuel gas and lost and unaccounted for gas (FL&U) provisions in section 26 of the General Terms and Conditions of its FERC Gas Tariff. Rockies Express states that a copy of this filing has been served upon all of its customers and effected state commissions.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time August 21, 2007.

Kimberly D. Bose,
Secretary.

[FR Doc. E7-16516 Filed 8-21-07; 8:45 am]

BILLING CODE 6717-01-P